DEPARTMENT OF TRANSPORTATION

Federal Aviation Administration

14 CFR Part 71

[Docket No. FAA-2005-23437; Airspace Docket No. 05-AWA-2]

RIN 2120-AA66

Proposed Modification of the Phoenix Class B Airspace Area; Arizona

AGENCY: Federal Aviation Administration (FAA), DOT.

ACTION: Notice of proposed rulemaking (NPRM).

SUMMARY: This action proposes to modify the Phoenix (PHX), AZ, Class B airspace area. Specifically, this action proposes to lower the ceiling to 9,000 feet mean sea level (MSL) and expand the arrival extension boundaries to 30 Nautical Miles (NM) to ensure the containment of the PHX Standard Terminal Arrival Routes (STAR) at the Phoenix Sky Harbor International Airport, and correct the inefficiencies of several existing areas identified during public meetings, and reviews of the airspace by the Phoenix Airspace Users Work Group (PAUWG) and Phoenix Terminal Radar Approach Control (TRACON P50). The FAA is proposing this action to improve the flow of air traffic, enhance safety, and reduce the potential for midair collision in the PHX Class B airspace area, while accommodating the concerns of airspace users. Further, this effort supports the FAA's national airspace redesign goal of optimizing terminal and en route airspace areas to reduce aircraft delays and improve system capacity.

DATES: Comments must be received on or before April 13, 2007.

ADDRESSES: Send comments on this proposal to the Docket Management System, U.S. Department of Transportation, Room Plaza 401, 400 Seventh Street, SW., Washington, DC 20590-0001. You must identify FAA Docket No. FAA-2004-23437 and Airspace Docket No. 05-AWA-2, at the beginning of your comments.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-23437 and Airspace Docket No. 05-AWA-2) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-23437 and Airspace Docket No. 05-AWA-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 15000 Aviation Boulevard, Lawndale, CA 90261.

Persons interested in being placed on a mailing list for future NPRMs should contact the FAA's Office of Rulemaking, (202) 267-9677, for a copy of Advisory Circular No. 11-2A, Notice of Proposed Rulemaking Distribution System, which describes the application procedure.

Background

In 1989, the FAA issued a final rule establishing the Phoenix Terminal Control Area (TCA). This area was later re-classified as a Class B airspace area as a result of the Airspace Reclassification Final Rule (56 FR 65638). Since its establishment, the Phoenix Class B airspace area has undergone several modifications. The existing Class B airspace area was developed in the early 1990s and revised in 1998 (63 FR 58291). Reviews of the airspace were conducted by representatives of P50 and the results presented to the PAUWG at regularly scheduled meetings during the last twelve months. These reviews indicated that the current Class B airspace contained areas of inefficiencies where boundary location/identification can be improved, and identified areas in need of modification to ensure the containment of STARs within Class B airspace. The proposed Class B airspace modifications will address these matters.

Public Input

As announced in the Federal Register (71 FR 5102), informal airspace meetings were held April 25, 2006, at the Glendale Airport Terminal Building, Glendale AZ; April 27, 2006, at Williams Gateway Airport, Mesa, AZ; and May 2, 2006 at the Deer Valley Airport, Phoenix, AZ. These meetings allowed interested airspace users an opportunity to present their views and offer suggestions regarding planned modifications to the PHX Class B airspace area. All comments received during the informal airspace meetings and the subsequent comment period were considered in developing this proposal.

The Airline Pilots Association, International (ALPA) cited the continuing problem of Traffic Alert and Collision Avoidance System (TCAS) resolution advisories with the current ceiling of 3,000 feet on the final approach course. Pointing out their agreement with lowering the airspace floor on the final from 3,000 to 2,700 feet, they endorsed the proposal.

The Aircraft Owners and Pilots Association (AOPA), Deer Valley Pilots Association (DVPA) and the Arizona Pilots Association (APA) provided detailed comments and alternatives to consider. These organizations advised their members to comment to the FAA in support of their well-advertised counter proposals. Of 82 written comments received, 24 specifically indicated their concurrence to similar APA or AOPA proposals. An additional 29 comments, in a form letter published on the DVPA website, indicated concurrence with the “ad-hoc committee” alternate proposal. Although the PAUWG ad-hoc committee did not author a proposal as referenced, language in the website indicated concurrence with the AOPA and APA alternate proposals. The remaining commenters responded with similar concerns or concurrence with the FAA proposal.

Two glider operators are affected by the lowering of the ceiling. 14 CFR 91.215 exempts gliders from the Mode C requirement within the Mode C Veil up to 10,000 feet or the ceiling of the Class B Airspace, whichever is lower. The 9,000-foot ceiling would thus limit non-Mode C equipped gliders to that altitude. P50 has agreed to enter into a Letter of Agreement (LOA) with these operators, providing relief from the provisions of 14 CFR 91.215(b) (3) (ii).

Three comments received were in favor of the 9,000-foot ceiling. They cited the increased ability to fly over the airspace at a lower altitude. Seven comments were in opposition of the 9,000-foot ceiling due to the potential impact to the glider community. Four of these stated that the 9,000-foot ceiling would be acceptable if there were a LOA waiving the requirements of 14 CFR 91.215(b) (3) (ii).

The FAA agrees that lowering the ceiling to 9,000 feet will accomplish the goal of having arrival traffic enter the top of Class B airspace. Additionally, the lower ceiling will enable Visual Flight Rules (VFR) traffic to transit the Phoenix area at a lower altitude above the Class B airspace without contacting ATC. The impact to the glider community will be eliminated with a LOA waiving the requirements of 14 CFR 91.215(b) (3) (ii).

Numerous individual commenters expressed a general criticism of the complex design, including those in agreement with alternative proposals expressing concerns over being able to navigate around Distance Measuring Equipment (DME) arcs. A frequent statement was made that “without moving map avionics, I will be unable to identify the boundaries”. DVPA objected to the use of DME arcs since the General Aviation (GA) pilot primarily uses pilotage for navigation. Use of DME would require pilots to spend too much time looking in the cockpit rather than for traffic.

The current method for defining airspace boundaries on the final, within 15 NM of PHX, is through north-south road alignments requiring local knowledge. Large turbine-powered aircraft are required to operate at or above the floors of the Class B airspace while arriving and departing the primary airport. Transient pilots, without local area knowledge, have no reliable means to determine their position relative to the next floor of airspace. The current Class B airspace has multiple areas defined along the 15, 20, and 25 DME arcs. The use of DME arcs to define the Class B airspace is consistent with other airports around the country. FAA Order 7400.2E para 15-2-3 b., prescribes the use of Navigational Aid (NAVAIDS) as references where available to describe the airspace. The Phoenix area has abundant geographical features that assist in basic pilotage around the proposed airspace. This is currently the case with the existing 15, 20, and 25 DME arcs.

Area A

Several commenters and organizations objected to the “Bowtie” design of the surface area and suggested that defining the surface area was difficult north and south of PHX since it is not associated with any Very High Frequency Ommidirectional Range (VOR) radials or ground reference points.

The FAA does not agree. Large turbine-powered aircraft arriving PHX are required to be sequenced to a 5 NM final. Jet aircraft departures may only diverge upon reaching a point 5 NM east or west of the airport due to noise abatement procedures. Large turbine-powered aircraft departures may diverge 30 degrees from runway heading on departure. The result is large areas north and south of the PHX airport that large turbine-powered aircraft never traverse.

The published East/West Transition route over PHX is a heavily used transition through the Class B airspace between 3,500-5,000 feet. The current surface area requires TRACON to keep these aircraft on frequency until departing the surface area approximately 5 NM from the airport. The proximity of the Scottsdale Airport (SDL) and Phoenix Deer Valley Airport (DVT) Class D airspace to the current Class B airspace offers little time for aircraft to establish contact with these facilities prior to entering their airspace. South of PHX, the transition is bracketed by 3,000-foot areas. These areas force aircraft, using the transition, to descend below the published transition altitudes enroute to Stellar Airpark (P19), Chandler Municipal Airport (CHD), and Williams Gateway Airport (IWA), or points east. The Bowtie configuration and adjacent airspace change proposals will allow these aircraft to change frequencies sooner and fly at higher altitudes below Class B airspace. Aircraft flying the charted transition route will remain well clear of the surface area diagonals.

Area B

Several commenters suggested retaining the existing road definitions contained in the current Class B airspace description for the surface area. One commentor suggested that if DME arcs were used, they should be made tangential to the inside of the existing 51st and 99th Avenue alignments.

This area retains the existing 3,000-foot airspace to the west of PHX. A continuation of the southwest diagonal of the surface area A is used for the southern boundary. The use of DME arcs to define Class B airspace is consistent with FAA policies. The proposed 10 and 15 DME arcs will be tangent to the current 51st and 99th Avenue alignments, affording a convenient reference for non-participating local pilots to navigate.

Area C

Numerous individual commenters and those in agreement with alternative proposals, expressed concern over the 1,470 foot Mesa Towers and their affect on the VFR Flyway. 14 CFR 91.119, Minimum Safe Altitudes: General, requires 1,000-foot vertical and 2,000-foot horizontal separation. Several commenters stated, if a power unit fails, the 2,700-foot base of the Class B airspace would not allow them to operate at an altitude allowing an emergency landing. AOPA commented that if the floor is lowered 300 feet, then the adjacent sector must remain as large as possible.

The FAA does not agree. Moving the VFR flyway east of the PXR 10 DME will encourage aircraft to operate away from an area of intense large turbine-powered aircraft activity. The flyway will pass over FFZ airport at a higher recommended altitude allowing more time for a contingency involving a power failure. Non-participating aircraft can still operate under the 2,700-foot shelf and meet the requirements of FAR 91.119 by maintaining 2,000 feet horizontal clearance from the obstacle (Mesa Towers). The airspace that is lowered no longer includes the areas north of Camelback Road and south of Guadalupe Road. That adjoining airspace will be raised 1,000 feet, with one airspace area, raised 2,000 feet in the area north of Stellar Airpark. This airspace will allow aircraft choosing to circumnavigate the Class B airspace to fly at the recommended 3,500 feet along the flyway east of the PXR 10 DME.

Area D

AOPA, APA and DVPA endorsed proposals suggesting the 4,000-feet area retain its uniformity across the north and south valleys.

The current surface area and 4,000 foot area north of PHX, would be raised to 5,000 feet. This decompresses traffic operating under the Class B airspace near the mountains immediately north of PHX. Aircraft requesting a transition south over PHX, can contact TRACON at a higher altitude approaching the transition in an area of limited radar and radio coverage. Aircraft not receiving Class B clearance are expected to remain outside of the airspace if clearance is not received. The current airspace requires aircraft to remain below 4,000 feet in areas of terrain as high as 2,700 feet, or north of this area at a higher altitude, in the vicinity of the SDL and DVT airports until clearance is received. Raising the airspace to 5,000 feet and increasing its size to the south achieves the goal of enabling more vertical airspace for aircraft to maneuver and to see and avoid traffic. The majority of aircraft requesting the transition operate at speeds less than 150 knots. Two major freeways identifying the airspace boundaries bracket this volume as a ground reference favored by many commenters. They are approximately 12.5 NM apart providing ample room to maneuver.

Area E

The current surface area and 4,000 foot area south of PHX would be raised to 5,000 feet. This decompresses traffic operating under the Class B airspace near South Mountain. This area raises portions of the Class B airspace currently at 3,000 feet northwest of the CHD airport. At this time, aircraft departing the transition must descend below 3,000 feet before turning east, then must contact CHD tower for transition through the CHD Class D airspace below 3,000 feet. The proposed change would offer the option of flying over CHD Class D airspace. The higher altitude offers the opportunity to fly higher south and west from south valley airports. Additionally, the southern boundary is contracted north approximately 3 NM allowing non-participating aircraft to operate at higher altitudes.

Area F

One commenter suggested that the existing 6,000 foot shelf be extended north over Luke AFB consistent with the lateral limits proposed by the FAA. The APA and one commenter provided detailed graphics of the potential of raising the Instrument Landing System (ILS) glide slope to 3.5 degrees.

The FAA does not agree. In this area, the airspace is being expanded to contain PHX arrival traffic during periods of sustained arrival demand and for the development of simultaneous independent ILS approach procedures during peak traffic operations. The ability to develop these procedures is critical in enabling PHX TRACON to efficiently and safely manage the arrival rate demand during reduced visibility conditions. ALPA stated they oppose any effort to raise the ILS glide slope above the three degree standard as suggested by the APA.

Area G: No comments specific to this area received.

Area H

One commenter stated the advantage of this small block of airspace is offset by the difficulty pilots will have in locating the boundaries. Another emphasized this block of airspace needs to be simplified. AOPA, APA & DVPA proposals are in favor of a rectangular 4,000-foot area containing this area.

The FAA does not agree. The Minimum Vectoring Altitude (MVA) in this area is 5,000 feet. Current Class B airspace and alternative proposals, contain this area in a 4,000-foot area. TRACON cannot operate in this area below the MVA, and though a rectangular area with a floor of 4,000 feet as suggested may aid in simplification, it is overly restrictive to pilots able to navigate around or below it. Aircraft, navigating via the currently published Gila Route without Class B clearance, will be able to avoid the airspace below 5,000 feet. TRACON requires this area to descend aircraft on a base leg to join the ILS at CAGOR intersection (PXR 16 DME) at 5,000 feet.

Area I

Numerous individual comments and those in agreement with alternative proposals expressed concerns over being able to climb above higher terrain east of PHX. AOPA commented in reference to FAA Advisory Circular AC No: 91-36D, VFR Flight Near Noise Sensitive Areas, referencing the Superstition Mountains.

The FAA does not agree. This airspace is expanded to contain PHX arrival traffic during periods of sustained arrival demand, and for the development of simultaneous independent ILS approach procedures during west traffic. The ability to develop these procedures is critical in enabling PHX TRACON to efficiently and safely manage the arrival rate demand during reduced visibility conditions. Non-participating aircraft have the option of adjusting their flight to avoid precipitous terrain or calling TRACON for a Class B clearance in order to climb sooner. AC-91-36D does not apply where it would conflict with regulations, ATC instructions, or where a pilot believes that operating below 2,000 feet is necessary for safety of flight.

Area J: No comments specific to this area received.

Area K: No comments specific to this area received.

Area L

The Class B Airspace southern boundary in this area would be expanded south to contain ARLIN Arrivals on the IWA R-256 radial at 6,000 feet. AOPA and APA recommended in the alternative proposals that a portion of this area be included in the 4,000-foot area rectangle.

The 4,000-foot rectangular area, as proposed, would represent a barrier to non-participating aircraft attempting to navigate north of the Estrella mountains. Terrain penetrates the suggested area with a 4,512-foot peak and surrounding terrain. This area would be more restrictive than the current airspace, thus forcing non-participating aircraft closer to the ground. The MVA in this area is 5,500 feet and does not require Class B protection at 4,000 feet.

Area M and Q

One commenter, and the alternative proposals, suggest that the tab could be narrower if aircraft were not vectored off the published arrival routes until they are within the Mode C Veil.

The FAA does not agree. Aircraft arriving on the PXR 336R STAR are vectored off the arrival for sequencing to the base leg during east traffic operations. These aircraft need to be on a base leg at sufficient distance to allow a simultaneous downwind flow from the northeast arrival STAR. Retaining the aircraft on the arrival until closer to the airport would require multiple vectors to position aircraft, creating sector complexity and an inefficient operation.

Area N

The alternative proposals omit this area in favor of retaining the existing 6,000-foot area. Only large turbine-powered aircraft, departing PHX and forced to level at 7,000 feet to avoid arrival traffic at 8,000 feet, use this area. TRACON does need 6,000 feet in this area for PHX traffic. The current 6,000-foot area forces non-participating traffic to remain below 6,000 until 20 NM when climbing north out of the valley. This causes conflict with numerous high performance aircraft on the SWIRL arrival to the SDL and DVT airports. These aircraft are required to level at 6,000 due to MVA restrictions until approaching 20NM north of PHX before descending. The added 1,000 feet of airspace will offer the opportunity for non-participating aircraft to climb higher and de-conflict with these aircraft.

Area O: No comments specific to this area received.

Area P: No comments specific to this area received.

Area Q: See “Area M”.

Area R: No comments specific to this area received.

Area S: No comments specific to this area received.

Area T: No comments specific to this area received.

Area U

One GA pilot representative organization suggested that this area is unnecessary for airline approaches that strictly remain on the 3 degree published glide slope.

The FAA does not agree. The PXR 10 DME arc used to define part of the 2,700-foot Area C, overlaps the FFZ Class D airspace. FFZ ATCT has operational need to retain this airspace for its traffic within Class D below 3400 feet. As part of this proposal, FFZ has agreed to amend its Class D boundary to the area east of Gilbert Road. This would allow non-participating aircraft operating under the 2,700-foot floor beyond the 6 DME surface area, to retain the same lateral space between the surface area and Class D airspace that currently exists. In order to provide a DME reference to aircraft on final and to protect ILS crossing altitudes, the area above FFZ Class D airspace between Gilbert Road and the PXR 10 DME, is defined as Class B Floor 3,400 feet. This also provides a north-south road reference for locally based pilots to avoid Class B and D airspace.

The Proposal

The FAA is proposing an amendment to Title 14 Code of Federal Regulations (14 CFR) part 71 to modify the PHX Class B airspace area. Specifically, this action (depicted on the attached chart) proposes to expand the eastern boundary to ensure the containment of the PHX STARs within Class B airspace and reconfigure several existing areas, correcting areas of inefficiencies identified during public meetings hosted by Phoenix TRACON. These proposed modifications would reduce the overall size of the PHX Class B airspace area, improve the containment of turbo-jet aircraft within the airspace, and improve the alignment of lateral boundaries with VOR radials and visual landmarks for improved VFR navigation.

The following are the proposed revisions for the PHX Class B airspace: The floor of the airspace east and west of PHX is lowered to contain PHX arrival traffic during periods of sustained arrival demand. Additionally, these proposed changes would facilitate the planned development of simultaneous, independent ILS approach procedures by creating necessary Class B airspace to contain the new procedures. The ability to develop these procedures is critical in enabling PHX to sustain an arrival rate equivalent to demand during reduced visibility conditions. During these periods, the airport arrival rate (AAR) is reduced by over 30%, from 72 aircraft an hour to 48 aircraft an hour. This creates a nationwide impact to the National Airspace System (NAS) that in the past has taken the user days to recover. The floor north and south of PHX is raised to create greater access for VFR aircraft in areas that do not require Class B airspace.

The results of the proposed Phoenix Class B changes are the proper containment of large turbine-powered aircraft within Class B airspace, more efficient traffic management during periods of reduced visibility, increased arrival rate demand, de-confliction of non-participating aircraft operating in close proximity to ILS crossing altitudes east of the airport, and better alignment of lateral boundaries with prominent and abundant visual landmarks for improved VFR navigation.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, the FAA has determined that this proposed rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on state, local, or tribal governments, or on the private sector by exceeding the threshold identified above. These analyses are summarized below.

This NPRM would modify Phoenix, AZ, Class B airspace at Phoenix Sky Harbor International Airport. The proposed rule would lower the altitude ceiling of the airspace and expand the arrival extension boundaries. The NPRM would generate benefits for system users and the FAA in the form of enhanced operational efficiency, simplified navigation in the Phoenix terminal area and may reduce circumnavigation costs. Since Class B airspace is already in place at Phoenix, and since the modifications proposed in this rule are a contraction of the Class B airspace, minimal costs, if any, would result. Thus, the FAA has determined this proposed rule would be cost-beneficial.

Initial Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This proposed rule should not impose any circumnavigation costs on individuals operating in the Phoenix area and the proposed rule would not impose any costs on small business entities. Operators of GA aircraft are considered individuals, not small business entities, and are not included when performing a regulatory flexibility analysis. Flight schools are considered small business entities. However, the FAA assumes that they provide instruction in aircraft equipped to navigate in Class B airspace given they currently provide instruction in the Phoenix terminal area. Therefore, the FAA certifies that this proposed rule would not have a significant economic impact on a substantial number of small entities. The FAA solicits comments from affected entities with respect to this finding and determination.

International Trade Impact Assessment

The Trade Agreements Act of 1979 (Public Law 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this proposed rule and has determined that it would have only a domestic impact and therefore no affect on international trade.

Unfunded Mandates Assessment

Title II of the Unfunded Mandates Reform Act of 1995 (Public Law 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million. This proposed rule does not contain such a mandate.

Conclusion

In view of the de minimus possible cost of compliance, potential cost savings of the proposed rule and enhancements to aviation safety and operational efficiency, the FAA has determined the proposed rule would be cost-beneficial. The FAA solicits comments regarding this determination.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 3000 Subpart B—Class B Airspace

* * * * *

AWP AZ B Phoenix, AZ

Phoenix Sky Harbor International Airport (Primary Airport)

(Lat. 33°26′10″ N., long. 112°00′34″ W.)

Phoenix VORTAC

(Lat. 33°25′59″ N., long. 111°58′13″ W.)

Boundaries

Area A. That airspace extending upward from the surface to and including 9,000 feet MSL defined by an east/west line along the northern boundary defined by Camelback Road and the PXR 10 DME, thence east to the intersection of Camelback Road and I-17; thence a line direct to the I-10/Squaw Peak Stack following the Loop 202 Freeway from the I-10/Squaw Peak Stack to the Red Mountain Hohokam Stack; thence northeast to the intersection of Camelback Road and Hayden Wash (lat. 33°30′07″ N., long. 111°54′32″ W.); thence east along Camelback Road to the PXR 6 DME arc (lat. 33°30′07″ N., long. 111°53′00″ W.); thence south to the Power Line/Canal (lat. 33°21′25″ N., long. 111°53′33″ W.); thence west to a point at lat. 33°21′25″ N., long. 111°55′12″ W., thence northwest to the intersection of I-10 and SR-143 (lat. 33°24′37″ N., long. 111°58′38″ W.); thence west to SR-51/I-10 extension to lat. 33°24′34″ N., long. 112°02′13″ W., thence southwest to a point at lat. 33°21′45″ N., long. 112°06′20″ W.; thence west along the lat. 33°21′45″ N.; thence north along the PXR 10 DME arc until intersecting Camelback Road.

Area B. That airspace extending upward from 3,000 feet MSL to and including 9,000 feet MSL defined by an east/west line along the northern boundary defined by the intersection of Camelback Road and the PXR 15 DME arc; thence east along Camelback Road to the intersection of Camelback Road and the PXR 10 DME arc; thence south along the PXR 10 DME arc until the intersection with lat. 33°21′45″ N.; thence east along lat. 33°21′45″ N. to lat. 33°21′45″ N., long. 112°06′20″ W.; thence southwest direct to the intersection of the Gila River and the Chandler Blvd extension (lat. 33°18′18″ N., long. 112°12′03″ W.); thence northwest along the Gila River to the intersection of the river and the PXR 15 DME arc; thence northwest along the PXR 15 DME arc to the intersection of Camelback Road.

Area C. That airspace extending upward from 2,700 feet MSL to and including 9,000 feet MSL defined by an east/west line along the northern boundary defined by the intersection of Camelback Road and PXR 6 DME arc (lat. 33°30′07″ N., long. 111°53′00″ W.); thence east to the intersection of Gilbert Road and PXR 10 DME arc; thence south along Gilbert Road to the intersection of Gilbert Road and Falcon Field (FFZ) Class D airspace (lat. 33°24′35″ N., long. 111°47′18″ W.); thence southeast along the FFZ Class D airspace boundary to the intersection with the PXR 10 DME arc; thence southwest along the PXR 10 DME arc to the intersection with lat. 33°21′25″ N.; thence west along lat. 33°21′25″ N. to the intersection of the PXR 6 DME arc; thence north along the PXR 6 DME arc to the intersection of Camelback Road with (lat. 33°30′07″ N., long. 111°53′00″ W.).

Area D. That airspace extending upward from 5,000 feet MSL to and including 9,000 feet MSL defined by an east/west line along the northern boundary using the Peoria Avenue/Shea Boulevard alignment from the intersection of I-17 (lat. 33°35′00″ N., long. 112°07′00″ W.); thence east along lat. 33°35′00″ N. to the intersection with Pima Road (lat. 33°35′00″ N., long. 111°53′28″ W.); thence south along Pima Road to the intersection of Camelback Road; thence west along Camelback Road to Hayden Wash (lat. 33°30′07″ N., long. 111°54′32″ W.); thence southwest on a line direct to the Red Mountain Hohokam Stack; thence west along the Loop 202 Freeway to the I-10/Squaw Peak Stack; thence northwest to the intersection of Camelback Road and I-17; thence north along I-17 to the intersection of I-17 and Peoria Avenue/Shea Boulevard.

Area E. That airspace extending upward from 5,000 feet MSL to and including 9,000 feet MSL defined by an eastern boundary starting at the intersection of I-10/SR-143 (lat. 33°24′37″ N., long. 111°58′38″ W.); thence southeast to lat. 33°21′25″ N., long. 111°54′55″ W.; thence southeast to the Chandler Airport (lat. 33°16′00″ N., long. 111°48′40″ W.); thence west along lat. 33°16′00″ N. to the intersection of the Gila River; thence north along the river to the intersection of the Chandler Boulevard extension (lat. 33°18′18″ N., long. 112°12′03″ W.); thence northeast direct to lat. 33°21′45″ N., long. 112°06′20″ W.; thence northeast direct to lat. 33°24′34″ N., long. 112°02′13″ W.; thence east to the intersection of I-10/SR-143.

Area F. That airspace extending upward from 4,000 feet MSL to and including 9,000 feet MSL defined by an east/west line along the northern boundary at the intersection of Peoria Avenue/Shea Boulevard and PXR 25 DME (lat. 33°35′00″ N., long. 112°26′07″ W.); thence east along lat. 33°35′00″ N. to the intersection of I-17 (lat. 33°35′00″ N., long. 112°07′00″ W.); thence south along I-17 to the intersection of Camelback Road; thence west along Camelback Road to the intersection of the PXR 15 DME arc; thence south along the PXR 15 DME arc to lat. 33°24′00″ N., long. 112°15′59″ W.; thence west along lat. 33°24′00″ N. to the intersection of the PXR 25 DME; thence north along the PXR 25 DME arc north to the intersection of Peoria Avenue/Shea Boulevard (lat. 33°35′00″ N., long. 112°26′07″ W.).

Area G. That airspace extending upward from 4,000 feet MSL to and including 9,000 feet MSL defined by an east/west line along the northern boundary defined by Peoria Avenue/Shea Boulevard and the intersection of Pima Road (lat. 33°35′00″ N., long. 111°53′28″ W.); thence east along lat. 33°35′00″ N. to the PXR 15 DME arc; thence south along the PXR 15 DME arc to lat. 33°16′00″ N.; thence west along lat. 33°16′00″ N. to Chandler Airport (lat. 33°16′00″ N., long. 111°48′40″ W.); thence direct northwest to lat. 33°21′25″ N., long. 111°55′12″ W.; thence east along the Power Line/Canal (lat. 33°21′25″ N.) to the PXR 10 DME arc; thence north along the PXR 10 DME arc to the intersection of Camelback Road; thence west along Camelback Road to the intersection of Pima Road; thence north along Pima Road to the intersection of Peoria Avenue/Shea Boulevard (lat. 33°35′00″ N., long. 111°53′28″ W.).

Area H. That airspace extending upward from 5,000 feet MSL to and including 9,000 feet MSL defined by an east/west line from the intersection of Litchfield Road and Southern Avenue (lat. 33°24′00″ N., long. 112°21′30″ W.); thence east along lat. 33°24′00″ N. to the intersection of the PXR 15 DME arc; thence southeast along the PXR 15 DME arc to lat. 33°20′00″ N.; thence west along lat. 33°20′00″ N. to intersect the extension of Litchfield Rd (lat. 33°20′00″ N., long. 112°21′30″ W.); thence north along the Litchfield Road to lat. 33°24′00″ N., long. 112°21′30″ W.

Area I. That airspace extending upward from 5,000 feet MSL to and including 9,000 feet MSL defined by an east/west line along lat. 33°35′00″ N. from the intersection of Peoria Avenue/Shea Boulevard and the PXR 15 DME arc east to the PXR 25 DME arc (lat. 33°35′00″ N., long. 111°30′18″ W.); thence south along the PXR 25 DME arc to lat. 33°16′00″ N.; thence west along lat. 33°16′00″ N. to the PXR 15 DME arc; thence north along the PXR 15 DME arc to the intersection of Peoria Avenue/Shea Boulevard (lat. 33°35′00″ N.).

Area J. That airspace extending upward from 6,000 feet MSL to and including 9,000 feet MSL defined by lat. 33°35′00″ N., long. 112°15′40″ W. on the Loop 101 Freeway; thence north along the freeway to a point at lat. 33°40′00″ N., long. 112°13′45″ W.; thence north to lat. 33°41′41″ N., long. 112°13′05″ W. on the PXR 20 DME arc; thence east along the PXR 20 DME arc to the PXR 354°(T)/342°(M) radial; thence south along the PXR 354°(T)/342°(M) radial to the intersection of the Loop 101 Freeway; thence east along the freeway to a point on Loop 101 Freeway at the approach end of Scottsdale Airport Runway 21 (lat. 33°38′39′″ N., long. 111°53′31″ W.); thence northeast to lat. 33°43′38″ N., long. 111°46′54″ W. on the PXR 20 DME arc; thence southeast along the PXR 20 DME arc to intersect lat. 33°35′00″ N.; thence west along lat. 33°35′00″ N. to lat. 33°35′00″ N. long. 112°15′40″ W.

Area K. That airspace extending upward from 6,000 feet MSL to and including 9,000 feet MSL defined by the intersection of PXR 17 DME arc and lat. 33°16′00″ N.; thence east along lat. 33°16′00″ N. to the PXR 20 DME arc; thence southwest along the PXR 20 DME arc to I-10 (lat. 33°07′02″ N., long. 111°50′26″ W.); thence northwest along I-10 to lat. 33°09′39″ N., long. 111°52′28″ W. on the PXR 17 DME arc; thence clockwise along the PXR 17 DME arc to intersect with lat. 33°16′00″ N.

Area L. That airspace extending upward from 6,000 feet MSL to and including 9,000 feet MSL defined by the intersection of the PXR 25 DME arc and lat. 33°24′00″ N.; thence east along lat. 33°24′00″ N. to Litchfield Road; thence south along Litchfield Road to lat. 33°20′00″ N., long. 112°21′30″ W.; thence east along lat. 33°20′00″ N. to the PXR 15 DME arc; thence southeast along the PXR 15 DME arc to the Gila River; thence southeast along the Gila River to lat. 33°16′00″ N.; thence west along lat. 33°16′00″ N. to the PXR 25 DME arc; thence north along the PXR 25 DME to lat. 33°24′00″ N.

Area M. That airspace extending upward from 7,000 feet MSL to and including 9,000 feet MSL defined by lat. 33°48′02″ N., long. 112°12′24″ W.; thence east along the PXR 25 DME arc to the PXR 354°(T)/342°(M) radial; thence south along the PXR 354°(T)/342°(M) radial to the PXR 20 DME arc; thence west along the PXR 20 DME arc to lat. 33°41′41″ N. long. 112°13′05″ W.; thence north to lat. 33°48′02″ N., long. 112°12′24″ W.

Area N. That airspace extending upward from 7,000 feet MSL to and including 9,000 feet MSL defined from the PXR 354°(T)/342°(M) radial and the PXR 20 DME arc; thence east along the PXR 20 DME arc to lat. 33°43′38″ N., long. 111°46′54″ W.; thence southwest to the approach end of Scottsdale Airport Runway 21 (lat. 33°38′39″ N., long. 111°53′31″ W.); thence northwest along the Loop 101 Freeway to the intersection of the PXR 354°(T)/342°(M) radial; thence north along the PXR 354°(T)/342°(M) radial to the PXR 20 DME arc.

Area O. That airspace extending upward from 7,000 feet MSL to and including 9,000 feet MSL defined from lat. 33°47′11″ N., long. 111°42′16″ W.; thence southeast along the PXR 25 DME arc to intersect the Peoria Avenue/Shea Boulevard extension (lat. 33°35′00″ N., long. 111°30′18″ W.); thence west along lat. 33°35′00″ N. to the PXR 20 DME arc; thence northwest along the PXR 20 DME arc to lat. 33°43′38″ N., long. 111°46′54″ W., thence northeast to lat. 33°47′11″ N., long. 111°42′16″ W.

Area P. That airspace extending upward from 7,000 feet MSL to and including 9,000 feet MSL defined by the intersection of the PXR 20 DME arc and lat. 33°16′00″ N., long. 111°37′25″ W.; thence east along lat. 33°16′00″ N. to intersect with the PXR 25 DME arc; thence southwest along the PXR 25 DME arc to intersect with I-10; thence northwest along I-10 to intersect with the PXR 20 DME arc; thence northeast along the PXR 20 DME arc to the intersection of lat. 33°16′00″ N.

Area Q. That airspace extending upward from 8,000 feet MSL to and including 9,000 feet MSL defined by lat. 33°53′48″ N., long. 112°11′50″ W.; thence east along the PXR 30 DME arc to the PXR 354°(T)/342°(M) radial; thence south along the PXR 354°(T)/342°(M) radial to the PXR 25 DME arc; thence west along the PXR 25 DME arc to lat. 33°48′02″ N., long. 112°12′24″ W.; thence north to lat. 33°53′48″ N., long. 112°11′50″ W.

Area R. That airspace extending upward from 8,000 feet MSL to and including 9,000 feet MSL defined by lat. 33°50′38″ N., long. 111°37′39″ W. on the PXR 30 DME arc; thence southeast along the PXR 30 DME arc to lat. 33°43′44″ N., long. 111°29′14″ W.; thence south to lat. 33°40′46″ N., long. 111°34′03″ W. on the PXR 25 DME arc; thence northwest along the PXR 25 DME arc to lat. 33°47′11″ N., long. 111°42′16″ W.; thence northeast direct to lat. 33°50′38″ N., long. 111°37′39″ W.

Area S. That airspace extending upward from 8,000 feet MSL to and including 9,000 feet MSL defined by the intersection of the PXR 25 DME and PXR 127°(T)/115°(M) radial; thence southeast along the PXR 127°(T)/115°(M) radial to the PXR 30 DME arc; thence southwest along the PXR 30 DME arc to intersect with I-10; thence northwest along I-10 to the PXR 25 DME arc; thence northeast along the PXR 25 DME arc to intersect with the PXR 127°(T)/115°(M) radial.

Area T. That airspace extending upward from 7,000 feet MSL to and including 9,000 feet MSL defined by lat. 33°30′34″ N., long. 112°27′36″ W.; thence west along lat. 33°30′34″ N. to the PXR 30 DME arc; thence south along the PXR 30 DME arc to lat. 33°16′00″ N.; thence east along lat. 33°16′00″ N. to the PXR 25 DME arc; thence north along the PXR 25 DME arc to lat. 33°30′34″ N., long. 112°27′36″ W.

Area U. That airspace extending upward from 3,400 feet MSL to and including 9,000 feet MSL defined from the intersection of the PXR 10 DME arc and Camelback Road (lat. 33°30′08″ N., long. 111°47′20″ W.); thence south along the PXR 10 DME arc to intersect with the southwest boundary of FFZ Class D airspace (lat. 33°24′02″ N., long. 111°46′30″ W.); thence northwest along FFZ Class D line to Gilbert Road (lat. 33°24′35″ N., long. 111°47′18″ W.); thence north along Gilbert Road to the intersection of Camelback Road and the PXR 10 DME arc (lat. 33°30′08″ N., long. 111°47′20″ W.).

* * * * *

Issued in Washington DC, on February 2, 2007.
Edith V. Parish,
Manager, Airspace and Rules.

[FR Doc. 07-599 Filed 2-9-07; 8:45 am]

BILLING CODE 4910-13-P